DEPARTMENT OF ENERGY

National Electric Transmission Congestion Study

AGENCY: Department of Energy.

ACTION: Notice of Public Comment.

SUMMARY: The Department of Energy (Department) invites public comment on the draft National Electric Transmission Congestion Study.

DATES: Comments must be received on or before October 20, 2014.

ADDRESSES: The draft study is available for review at http://www.energy.gov/node/942311. Written comments may be submitted electronically to Congestionstudy.comments@hq.doe.gov. Written comments may also be delivered by conventional mail to David Meyer, Office of Electricity Delivery and Energy Reliability, U.S. Department of Energy, 1000 Independence Ave. SW., Washington, DC 20585. Commenters are cautioned, however, that all conventional mail to the Department is subject to an automatic security screening process that may take up to three weeks and sometimes renders mailed material illegible.

FOR FURTHER INFORMATION CONTACT: David Meyer, at David.Meyer@hq.doe.gov, or telephone 202-586-1411.

SUPPLEMENTARY INFORMATION: Section 1221(a) of the Energy Policy Act of 2005, codified at 16 U.S.C. 824p(a), directs the Secretary of Energy to conduct an electric transmission congestion study every three years, and to prepare it in consultation with affected states and regional reliability organizations. In the study, the Department seeks to provide information about transmission congestion by focusing on specific indications of transmission constraints and congestion and their consequences. The study focuses on a specific time frame—i.e., historical trends over the past few years, and looking forward three to five years. The study is based entirely on publicly available data and transmission-related documents.

The draft study is available for review at http://www.energy.gov/node/942311. All comments received will be made publicly available on http://www.energy.gov/node/942311. After reviewing and considering the public comments, the Department will prepare and release a final version of the study.

Issued at Washington, DC, on August 14, 2014.
Patricia A. Hoffman,
Assistant Secretary, Office of Electricity Delivery and Energy Reliability.

[FR Doc. 2014-19690 Filed 8-18-14; 8:45 am]

BILLING CODE 6450-01-P